NUCLEAR REGULATORY COMMISSION

[NRC-2017-0180]

Information Collection: Voluntary Reporting of Planned New Reactor Applications

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “NRC Regulatory Issue Summary 2017-08, “Process for Scheduling and Allocating Resources for Fiscal Years 2020 through 2022 for the Review of New Licensing Applications for Light-Water Reactors and Non-Light Water Reactors.”

DATES: Submit comments by May 11, 2018.

ADDRESSES: Submit comments directly to the OMB reviewer at: Brandon De Bruhl, Desk Officer, Office of Information and Regulatory Affairs (3150-0228), NEOB-10202, Office of Management and Budget, Washington, DC 20503; telephone: 202-395-0710, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2017-0180 when contacting the NRC about the availability of information for this action. You may obtain publicly-available information related to this action by any of the following methods:

• Federal Rulemaking Website: Go to http://www.regulations.gov and search for Docket ID NRC-2017-0180. A copy of the collection of information and related instructions may be obtained without charge by accessing Docket ID NRC-2017-0180 on this website.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML17262B022. The supporting statement and Voluntary Reporting of Planned New Reactor Applications are available in ADAMS under Accession Nos. ML18085A776 and ML17262B022.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “NRC Regulatory Issue Summary 2017-08, “Process for Scheduling and Allocating Resources for Fiscal Years 2020 through 2022 for the Review of New Licensing Applications for Light-Water Reactors and Non-Light Water Reactors.” The NRC hereby informs potential respondents that an agency may not conduct or sponsor, and that a person is not required to respond to, a collection of information unless it displays a currently valid OMB control number.

The NRC published a Federal Register notice with a 60-day comment period on this information collection on November 27, 2017, 82 FR 56059.

1. The title of the information collection: Voluntary Reporting of Planned New Reactor Applications.

2. OMB approval number: 3150-0228.

3. Type of submission: Extension.

4. The form number if applicable: N/A.

5. How often the collection is required or requested: Annually.

6. Who will be required or asked to respond: Applicants for a design certification and/or a license to build a new nuclear power plant.

7. The estimated number of annual responses: Five.

8. The estimated number of annual respondents: Five.

9. An estimate of the total number of hours needed annually to comply with the information collection requirement or request: 60.

10. Abstract: This voluntary information collection assists the NRC in determining resource and budget needs, as well as aligning the proper allocation and utilization of resources to support applicant submittals, future construction-related activities, and other anticipated part 50 and/or part 52 of title 10 of the Code of Federal Regulations (10 CFR) licensing and design certification rulemaking actions. In addition, information provided to the NRC staff is intended to promote early communications between the NRC and the respective addressees about potential 10 CFR part 50 and/or part 52 licensing actions and related activities, submission dates, and plans for construction and inspection activities. The overarching goal of this information collection is to assist the NRC staff more effectively and efficiently plan, schedule, and implement activities and reviews in a timely manner.

Dated at Rockville, Maryland, on April 5, 2018.
For the Nuclear Regulatory Commission.
David Cullison,
NRC Clearance Officer, Office of the Chief Information Officer.

[FR Doc. 2018-07456 Filed 4-10-18; 8:45 am]

BILLING CODE 7590-01-P